SOCIAL SECURITY ADMINISTRATION

[Docket No. SSA-2009-0002]

Agreement on Social Security Between the United States and the Republic of Poland; Entry Into Force

AGENCY: Social Security Administration.

ACTION: Notice.

SUMMARY: We are giving notice that an agreement coordinating the United States (U.S.) and the Polish social security programs will enter into force on March 1, 2009. The agreement with the Republic of Poland, which was signed on April 2, 2008, is similar to U.S. social security agreements already in force with 23 other countries—Australia, Austria, Belgium, Canada, Chile, the Czech Republic, Denmark, Finland, France, Germany, Greece, Ireland, Italy, Japan, Korea (South), Luxembourg, the Netherlands, Norway, Portugal, Spain, Sweden, Switzerland and the United Kingdom. Agreements of this type are authorized by section 233 of the Social Security Act. 42 U.S.C. 433.

Like the other agreements, the U.S.-Polish agreement eliminates dual social security coverage. This situation exists when a worker from one country works in the other country and is covered under the social security systems of both countries for the same work. When dual coverage occurs without such agreements in force, the worker, the worker's employer, or both may be required to pay social security contributions to the two countries simultaneously. Under the U.S.-Polish agreement, a worker who is sent by an employer in one country to work in the other country for 5 or fewer years remains covered only by the sending country. The agreement includes additional rules that eliminate dual U.S. and Polish coverage in other work situations.

The agreement also helps eliminate situations where workers suffer a loss of benefit rights because they have divided their careers between the two countries. Under the agreement, workers may qualify for partial U.S. benefits or partial Polish benefits based on combined (totalized) work credits from both countries.

Persons who would like a copy of the agreement or want more information about its provisions may write to the Social Security Administration, Office of International Programs, Post Office Box 17741, Baltimore, MD 21235-7741 or visit the Social Security Web site at http://www.socialsecurity.gov/international.

Dated: February 20, 2009.
Michael J. Astrue,
Commissioner of Social Security.

[FR Doc. E9-4104 Filed 2-25-09; 8:45 am]

BILLING CODE 4191-02-P